DEPARTMENT OF LABOR

Employment and Training Administration

[TA-W-62,614]

Weyerhaeuser Green Mountain Lumber Mill, Toutle, WA; Notice of Negative Determination on Reconsideration

On February 29, 2008, the Department of Labor (Department) issued an Affirmative Determination Regarding Application for Reconsideration regarding workers' eligibility to apply for Trade Adjustment Assistance (TAA) and Alternative Trade Adjustment Assistance (ATAA) applicable to workers and former workers of Weyerhaeuser Green Mountain Lumber Mill, Toutle, Washington (the subject firm). The Department's Notice of Affirmative Determination regarding the request for reconsideration was published in the Federal Register on March 7, 2007 (73 FR 12463). Workers produce rough sawn softwood dimensional lumber.

The initial negative determination was based on the Department's findings that sales and production at the subject firm remained stable during the relevant period compared to previous year; the subject firm did not shift production to a foreign country; and the subject firm did not import articles like or directly competitive with the lumber produced by the subject workers. The determination also stated that the predominant cause of worker separations is related to the transfer of production to another, domestic, affiliated facility.

In the request for reconsideration, dated February 28, 2008, the IAM Woodworkers Local W536 (the Union) alleged that increased imports by Weyerhaeuser Corporation of articles like or directly competitive with softwood dimensional lumber produced at the subject firm contributed importantly to the workers' separations (“Weyerhaeuser Corporation is the largest producer of softwood dimensional lumber in the United States with significant production facilities in Canada and worldwide”).

To be certified for TAA on the basis of increased imports, the petitioning worker group must meet the criteria set forth under Section 223(a)(2)(A) of the Trade Act of 1974:

A. A significant number or proportion of the workers in such workers' firm, or an appropriate subdivision of the firm, have become totally or partially separated, or are threatened to become totally or partially separated; and

B. The sales or production, or both, of such firm or subdivision have decreased absolutely; and

C. Increases of imports of articles like or directly competitive with articles produced by such firm or subdivision have contributed importantly to such workers' separation or threat of separation and to the decline in sales or production of such firm or subdivision.

After careful review of previously-submitted information, the Department determines that Section 223(a)(2)(A)(A) and Section 223(a)(2)(A)(B) were met. Accordingly, the Department's reconsideration investigation focused on whether the petitioning worker group satisfied Section 223(a)(2)(A)(C).

Under 29 CFR 90.16 (Determinations and certifications of eligibility to apply for adjustment assistance), certification for TAA may be issued if a significant number or proportion of the workers in the subject firm (or an appropriate subdivision of the firm) have become or are threatened to become totally or partially separated; sales and/or production of the subject firm (or an appropriate subdivision of the firm) have decreased absolutely; and increases (absolute or relative) of imports of articles like or directly competitive with articles produced by the subject firm (or an appropriate subdivision of the firm) contributed importantly to the workers' separation, or threat of separation, and to such decline in sales or production. The regulation also states that “contributed importantly means a cause which is importantly but not necessarily more important than any other cause.”

During the reconsideration investigation, the Department determined that there were no increased imports of softwood dimensional lumber during 2007 from 2006 by either the subject firm or Weyerhaeuser. Rather, imports of softwood dimensional lumber by Weyerhaeuser decreased in 2007 from 2006 levels.

On reconsideration, the Department confirmed that the predominant cause of the workers' separations was the shift of production to another, newly-built, domestic facility. New information obtained by the Department during the reconsideration revealed that the move was due to the decreased amount of timber around the Toutle area and the plentiful amount of timber around the new location.

Accordingly, the Department determines that the petitioning worker group has not satisfied Section 223(a)(2)(A)(C) and are not eligible to apply for worker adjustment assistance under the Trade Act.

In order for the Department to issue a certification of eligibility to apply for Alternative Trade Adjustment Assistance (ATAA), the subject worker group must be certified eligible to apply for TAA. Since the petitioning worker group is denied eligibility to apply for TAA, the subject workers cannot be certified eligible for ATAA.

Conclusion

After careful reconsideration, I affirm the original notice of negative determination of eligibility to apply for worker adjustment assistance for workers and former workers of Weyerhaeuser Green Mountain Lumber Mill, Toutle, Washington.

Signed at Washington, DC this 28th day of March 2008.
Elliott S. Kushner,
Certifying Officer, Division of Trade Adjustment Assistance.

[FR Doc. E8-8980 Filed 4-23-08; 8:45 am]

BILLING CODE 4510-FN-P